NATIONAL TRANSPORTATION SAFETY BOARD

Meeting Notice

Time and Date: 9:30 a.m., Tuesday, September 20, 2005.

Place: NTSB Board Room, 429 L'Enfant Plaza, S.W., Washington, DC 20594.

Status: The one item is Open to the Public.

Matter to be Considered:

5299R—Most Wanted Safety Recommendations Program—2005 Update on State Issues.

News Media Contact: Telephone: (202) 314-6100.

Individuals requesting specific accommodations should contact Ms. Carolyn Dargan at (202) 314-6305 by Friday, September 16, 2005.

The public may view the meeting via a live or archived webcast by accessing a link under “News & Events” on the NTSB home page at http://www.ntsb.gov.

FOR MORE INFORMATION CONTACT: Vicky D'Onofrio, (202) 314-6410.

Dated: September 9, 2005.
Vicky D'Onofrio,
Federal Register Liaison Officer.

[FR Doc. 05-18294 Filed 9-9-05; 3:57 am]

BILLING CODE 7533-01-M